POSTAL SERVICE

39 CFR Part 111

POSTNET Barcode Discontinuation

AGENCY: Postal Service.™

ACTION: Final rule; correction.

SUMMARY: This document corrects an earlier revision to the Mailing Standards of the United States Postal Service, Domestic Mail Manual (DMM®) which discontinued price eligibility based on the use of POSTNET™ barcodes on all types of mail. The correction adds DMM revisions that were inadvertently omitted in the original final rule.

DATES: Effective date: January 28, 2013.

FOR FURTHER INFORMATION CONTACT: Bill Chatfield, 202-268-7278 or Jeff Freeman, 202-268-2922.

SUPPLEMENTARY INFORMATION:

Background

On May 3, 2012, the Postal Service published a final rule in the Federal Register (77 FR 26185-26191) to discontinue price eligibility for POSTNET barcodes for all types of mail. This revision adds DMM revisions (regarding Periodicals automation letters and flats) that were inadvertently omitted in the original final rule, but does not change any of the DMM revisions previously published in that rule.

Implementation

Effective January 28, 2013, the Postal Service will discontinue price eligibility for the use of POSTNET barcodes and allow only Intelligent Mail barcodes (IMbs) for automation price eligibility purposes, including Qualified Business Reply Mail (QBRM) prices. The Postal Service understands that some mailers currently use POSTNET barcodes and we are committed to providing information to and working with individual mailers and software providers to ensure that the use of an Intelligent Mail barcode is achievable for all mailing customers.

Change for Letters and Flats

For the past several years, both USPS and the mailing industry have used the IMb to gain information about letters and flats as they move from induction to delivery. As of January 28, 2013, the use of the IMb will be required for all automation letters, including Business Reply Mail® letters that qualify for Qualified Business Reply Mail prices, Permit Reply Mail letters, and automation flats.

The Postal Service adopts the following additional changes to Mailing Standards of the United States Postal Service, Domestic Mail Manual (DMM), which is incorporated by reference in the Code of Federal Regulations. See 39 CFR 111.1.

List of Subjects in 39 CFR Part 111

Administrative practice and procedure, Postal Service.

Accordingly, 39 CFR Part 111 is further amended as follows:

PART 111—[AMENDED]

1. The authority citation for 39 CFR Part 111 continues to read as follows:

Authority: 5 U.S.C. 552(a); 13 U.S.C 301-307; 18 U.S.C. 1692-1737:39 U.S.C. 101, 401, 403, 404, 414, 416, 3001-3011, 3201-3219, 3403-3406, 3621, 3622, 3626, 3632, 3633, and 5001.

2. Revise the following sections of Mailing Standards of the United States Postal Service, Domestic Mail Manual (DMM), as follows:

Mailing Standards of the United States Postal Service, Domestic Mail Manual (DMM)

* * * * *

700 Special Standards

* * * * *

707 Periodicals

* * * * *

12.0 Nonbarcoded (Presorted) Eligibility

12.1 Basic Standards

* * * * *

12.1.3 Barcode Quality

[Revise the text of 12.1.3 as follows:]

Any Intelligent Mail barcode on a mailpiece must be correct for the delivery address and meet the standards in 708.4.0 and 708.3.0.

* * * * *

13.0 Carrier Route Eligibility

13.1 Basic Standards

* * * * *

13.1.3 Barcode Quality

[Revise the text of 13.1.3 as follows:]

Any Intelligent Mail barcode on a mailpiece must be correct for the delivery address and meet the standards in 708.4.0 and 708.3.0.

* * * * *

14.0 Barcoded (Automation) Eligibility

[Revise 14.1 to include the standards in current 14.1.1, with revised text as follows:]

14.1 Basic Standards

[Revise the introductory text of 14.1 as follows:]

All pieces in a Periodicals barcoded (automation) mailing must:

* * * * *

[Revise the first sentence of item 14.1.1c as follows:]

c. Bear an accurate Intelligent Mail barcode encoded with the correct delivery point routing code, matching the delivery address and meeting the standards in 202.5.0 (for letters), 302.4.0 (for flats), and 708.4.0.

* * * * *

[Delete the heading of current 14.1.1, and delete current 14.1.2, Enclosed Reply Cards and Envelopes, in its entirety.]

* * * * *

14.5 Address Standards for Barcoded Pieces

* * * * *

14.5.3 Numeric Delivery Point Barcode

[Revise the text of 14.5.3 as follows:]

A numeric equivalent of the delivery point routing code is formed by adding two digits directly after the ZIP+4 code.

* * * * *

We will publish an appropriate amendment to 39 CFR part 111 to reflect these changes.

Stanley F. Mires,
Attorney, Legal Policy & Legislative Advice.

[FR Doc. 2012-13636 Filed 6-5-12; 8:45 am]

BILLING CODE 7710-12-P